SMALL BUSINESS ADMINISTRATION

Data Collection Available for Public Comments

ACTION: 60-day notice and request for comments.

SUMMARY: In accordance with the Paperwork Reduction Act of 1995, this notice announces the Small Business Administration's (SBA) intentions to request approval for reinstatement with modification of a previously approved information collection.

DATES: Submit comments on or before January 27, 2023.

ADDRESSES: Send all comments regarding whether this information collection is necessary for the proper performance of the function of the agency, whether the burden estimates are accurate, and if there are ways to minimize the estimated burden and enhance the quality of the collections, to Louis Cupp, New Markets Policy Analyst, Office of Investment and Innovation, Small Business Administration, 409 3rd Street, 6th Floor, Washington, DC 20416.

FOR FURTHER INFORMATION CONTACT: Louis Cupp, New Markets Policy Analyst, 202-619-0511, louis.cupp@sba.gov; Curtis B. Rich, Agency Clearance Officer, 202-205-7030, curtis.rich@sba.gov.

SUPPLEMENTARY INFORMATION: SBA Forms 2181, 2182 and 2183 provide SBA with the necessary information to make decisions regarding the approval or denial of an applicant for a small business investment company (SBIC) license. SBA uses this information to assess an applicant's ability to successfully operate an SBIC within the scope of the Small Business Investment Act of 1958, as amended.

Solicitation of Public Comments

SBA is requesting comments on (a) Whether the collection of information is necessary for the agency to properly perform its mission and functions with respect to the SBIC program; (b) whether the burden estimates are accurate; (c) whether there are ways to minimize the burden, including through the use of automated techniques or other forms of information technology; and (d) whether there are ways to enhance the quality, utility, and clarity of the information.

OMB Control Number 3245:0062

Title: SBIC Management Assessment Questionnaire & License Application; Exhibits to Management Assessment Questionnaire & SBIC License Application.

Frequency: On occasion.

SBA Form Numbers: 2181, 2182, and 2183.

Description of Respondents: Small Business Investment Company (SBIC) applicants.

Responses: 375.

Annual Burden: 24,625.

Curtis Rich,
Agency Clearance Officer.

[FR Doc. 2022-25785 Filed 11-25-22; 8:45 am]

BILLING CODE 8026-09-P